MILLENNIUM CHALLENGE CORPORATION

[MCC FR 19-06]

Report on Countries That Are Candidates for Millennium Challenge Account Eligibility in Fiscal Year 2020 and Countries That Would Be Candidates But for Legal Prohibitions

AGENCY: Millennium Challenge Corporation.

ACTION: Notice.

SUMMARY: Section 608(a) of the Millennium Challenge Act of 2003 requires the Millennium Challenge Corporation to publish a report that identifies countries that are “candidate countries” for Millennium Challenge Account assistance during FY 2020. The report is set forth in full below.

Dated: September 23, 2019.
Brian Finkelstein,
Acting General Counsel.

Report on Countries that are Candidates for Millennium Challenge Compact Eligibility for Fiscal Year 2020 and Countries that would be Candidates but for Legal Prohibitions

Summary

This report to Congress is provided in accordance with section 608(a) of the Millennium Challenge Act of 2003, as amended, 22 U.S.C. 7701, 7707(a) (the Act).

The Act authorizes the provision of assistance for global development through the Millennium Challenge Corporation (MCC) for countries that enter into a Millennium Challenge Compact with the United States to support policies and programs that advance the progress of such countries to achieve lasting economic growth and poverty reduction. The Act requires MCC to take a number of steps in selecting countries with which MCC will seek to enter into a compact, including determining the countries that will be eligible countries for fiscal year (FY) 2020 based on (a) a country's demonstrated commitment to (i) just and democratic governance, (ii) economic freedom, and (iii) investments in its people; and (b) the opportunity to reduce poverty and generate economic growth in the country, and (c) the availability of funds to MCC. These steps include the submission to the congressional committees specified in the Act and publication in the Federal Register of reports on the following:

• The countries that are “candidate countries” for FY 2020 based on their per capita income levels and their eligibility to receive assistance under U.S. law and countries that would be candidate countries but for specified legal prohibitions on assistance (section 608(a) of the Act);

• The criteria and methodology that the MCC Board of Directors (Board) will use to measure and evaluate the relative policy performance of the “candidate countries” consistent with the requirements of subsections (a) and (b) of section 607 of the Act in order to determine “eligible countries” from among the “candidate countries” (section 608(b) of the Act); and

• The list of countries determined by the Board to be “eligible countries” for FY 2020, identification of such countries with which the Board will seek to enter into compacts, and a justification for such eligibility determination and selection for compact negotiation (section 608(d) of the Act).

This report is the first of three required reports listed above.

Candidate Countries for FY 2020

The Act requires the identification of all countries that are candidate countries for FY 2020 and the identification of all countries that would be candidate countries but for specified legal prohibitions on assistance. Under sections 606(a) and (b) of the Act, candidate countries must qualify as low income or lower middle income countries as defined in the Act.

Specifically, a country will be a candidate country in the low income category for FY 2020 if it

• has a per capita income that is not greater than the World Bank's lower middle income country threshold for such fiscal year ($3,995 gross national income per capita for FY 2020);

• is among the 75 countries identified by the World Bank as having the lowest per capita income; and

• is not ineligible to receive United States economic assistance under part I of the Foreign Assistance Act of 1961, as amended (the Foreign Assistance Act), by reason of the application of the Foreign Assistance Act or any other provision of law.

A country will be a candidate country in the lower middle income category for FY 2020 if it

• has a per capita income that is not greater than the World Bank's lower middle income country threshold for such fiscal year ($3,995 gross national income per capita for FY 2020);

• is not among the 75 countries identified by the World Bank as having the lowest per capita income; and

• is not ineligible to receive United States economic assistance under part I of the Foreign Assistance Act by reason of the application of the Foreign Assistance Act or any other provision of law.

Under section 606(c) of the Act as applied for FY 2020, a country with per capita income changes from FY 2019 to FY 2020 such that the country would be reclassified from the low income category to the lower middle income category or vice versa will retain its income status in its former category for FY 2020 and two subsequent fiscal years (FY 2021 and FY 2022). A country that has transitioned to the upper middle income category does not qualify as a candidate country.

Pursuant to section 606(d) of the Act, the Board identified the following countries as candidate countries under the Act for FY 2020. In so doing, the Board referred to the prohibitions on assistance to countries for FY 2019 under the Department of State, Foreign Operations, and Related Programs Appropriations Act, 2019 (FY 2019 SFOAA).

Candidate Countries: Low Income Category

1. Afghanistan

2. Angola

3. Bangladesh

4. Benin

5. Bhutan *

6. Burkina Faso

7. Cabo Verde

8. Cameroon

9. Central African Republic

10. Chad

11. Côte d'Ivoire

12. Djibouti

13. Egypt

14. Eswatini

15. Ethiopia

16. Gambia, The *

17. Ghana

18. Guinea

19. Guinea-Bissau

20. Haiti

21. Honduras

22. India

23. Indonesia

24. Kenya

25. Kiribati

26. Kyrgyzstan

27. Laos

28. Lesotho

29. Liberia

30. Madagascar

31. Malawi

32. Mali

33. Micronesia, Federated States of

34. Moldova

35. Morocco

36. Mozambique

37. Nepal

38. Niger

39. Nigeria

40. Pakistan

41. Papua New Guinea *

42. Philippines

43. Republic of the Congo

44. Rwanda

45. São Tomé and Principe

46. Senegal

47. Sierra Leone

48. Solomon Islands

49. Somalia

50. Tajikistan

51. Tanzania

52. Timor-Leste

53. Togo

54. Uganda

55. Ukraine

56. Uzbekistan

57. Vanuatu

58. Vietnam

59. Yemen

60. Zambia

* Bhutan, The Gambia, and Papua New Guinea were included on the list of Tier 3 countries in the 2019 Trafficking in Persons Report. If the President determines to withhold non-humanitarian nontrade-related assistance to such countries under section 110 of the Trafficking Victims Protection Act of 2000, each would no longer be a candidate country for FY 2020.

Candidate Countries: Lower Middle Income Category

1. Mongolia

2. El Salvador

3. Tunisia

Countries that Would Be Candidate Countries but for Legal Provisions that Prohibit Assistance

Countries that would be considered candidate countries for FY 2020 but are ineligible to receive United States economic assistance under part I of the Foreign Assistance Act by reason of the application of any provision of the Foreign Assistance Act or any other provision of law are listed below. This list is based on legal prohibitions against economic assistance that apply as of July 19, 2019.

Prohibited Countries: Low Income Category

Bolivia is ineligible to receive foreign assistance pursuant to section 706(3) of the Foreign Relations Authorization Act, Fiscal Year 2003 (Pub. L. 107-228), regarding adherence to obligations under international counternarcotics agreements and other counternarcotics measures.

Burma is ineligible to receive foreign assistance, including due to concerns relative to its record on human rights.

Burundi is ineligible to receive foreign assistance due to its status as a Tier 3 country under the Trafficking Victims Protection Act of 2000 (22 U.S.C. 7101 et seq.).

Cambodia is ineligible to receive foreign assistance pursuant to section 7043(b)(1)(A) of the FY 2019 SFOAA, which restricts assistance to the Government of Cambodia unless the Secretary of State certifies that the Government of Cambodia is taking effective steps to strengthen regional security and stability and respect the rights and responsibilities enshrined in the Constitution of the Kingdom of Cambodia.

Comoros is ineligible to receive foreign assistance due to its status as a Tier 3 country under the Trafficking Victims Protection Act of 2000 (22 U.S.C. 7101 et seq.).

Democratic Republic of Congo is ineligible to receive foreign assistance due to its status as a Tier 3 country under the Trafficking Victims Protection Act of 2000 (22 U.S.C. 7101 et seq.).

Eritrea is ineligible to receive foreign assistance, including due to its status as a Tier 3 country under the Trafficking Victims Protection Act of 2000 (22 U.S.C. 7101 et seq.).

Mauritania is ineligible to receive foreign assistance due to its status as a Tier 3 country under the Trafficking Victims Protection Act of 2000 (22 U.S.C. 7101 et seq.).

Nicaragua is ineligible to receive foreign assistance pursuant to section 7047(c) of the FY 2019 SFOAA, which prohibits assistance for the central government of a country that the Secretary of State determines has recognized the independence of, or has established diplomatic relations with, the Russian occupied Georgian territories of Abkhazia and Tskhinvali Region/South Ossetia.

North Korea is ineligible to receive foreign assistance, including pursuant to section 7007 of the FY 2019 SFOAA, which prohibits direct assistance to the government of North Korea.

South Sudan is ineligible to receive foreign assistance, including pursuant to section 7042(f) of the FY 2019 SFOAA, which prohibits (with limited exceptions) assistance to the central government of South Sudan.

Sudan is ineligible to receive foreign assistance, including pursuant to section 7042(g) of the FY 2019 SFOAA, which prohibits (with limited exceptions) assistance to the government of Sudan.

Syria is ineligible to receive foreign assistance, including pursuant to section 7007 of the FY 2019 SFOAA, which prohibits direct assistance to the government of Syria.

Zimbabwe is ineligible to receive foreign assistance, including pursuant to section 7042(h)(2) of the FY 2019 SFOAA, which prohibits (with limited exceptions) assistance for the central government of Zimbabwe unless the Secretary of State certifies and reports to Congress that the rule of law has been restored, including respect for ownership and title to property, and freedoms of expression, association, and assembly.

Countries identified above as candidate countries, as well as countries that would be considered candidate countries but for the applicability of legal provisions that prohibit U.S. economic assistance, may be the subject of future statutory restrictions or determinations, or changed country circumstances, that affect their legal eligibility for assistance under part I of the Foreign Assistance Act by reason of application of the Foreign Assistance Act or any other provision of law for FY 2020.

[FR Doc. 2019-20977 Filed 9-24-19; 11:15 am]

BILLING CODE 9211-03-P